SECURITIES AND EXCHANGE COMMISSION

Issuer Delisting; Notice of Application To Withdraw From Listing and Registration on the Pacific Exchange, Inc. (EVCI Career Colleges, Common Stock, $.0001 Par Value) File No. 1-14827

August 14, 2002.

EVCI Career Colleges, a Delaware corporation, (“Issuer”), has filed an application with the Securities and Exchange Commission (“Commission”), pursuant to section 12(d) of the Securities Exchange Act of 1934 (“Act”) ¹ and Rule 12d2-2(d) thereunder,² to withdraw its Common Stock, $.0001 par value (“Security”), from listing and registration on the Pacific Exchange, Inc. (“PCX” or “Exchange”).

¹ 15 U.S.C. 78l(d).

² 17 CFR 240.12d2-2(d).

The Board of Directors (“Board”) of the Issuer approved a resolution on June 14, 2002 to withdraw the Security from listing on the Exchange. The Board stated that the financial cost, time, and other Company resources required to continue listing the Security on the Exchange outweigh the benefits to the Company and its stockholders. The Issuer states that it will continue to list its Security on the Boston Stock Exchange, Inc. (“BSE”)

The Issuer stated in its application that it has complied with the rules of the PCX Equities, Inc. (“PCXE”) that govern the removal of securities from listing and registration on the Exchange. The Issuer's application relates solely to the withdrawal of the Security from listing on the PCX and shall have no affect upon the Security's continued listing on the BSE or its obligation to be registered under section 12(b) of the Act.³

³ 15 U.S.C. 781(b).

Any interested person may, on or before September 6, 2002, submit by letter to the Secretary of the Securities and Exchange Commission, 450 Fifth Street, NW., Washington, DC 20549-0609, facts bearing upon whether the application has been made in accordance with the rules of the PCX and what terms, if any, should be imposed by the Commission for the protection of investors. The Commission, based on the information submitted to it, will issue an order granting the application after the date mentioned above, unless the Commission determines to order a hearing on the matter.

For the Commission, by the Division of Market Regulation, pursuant to delegated authority.⁴
⁴ 17 CFR 200.30-3(a)(1).
Jonathan G. Katz,
Secretary.

[FR Doc. 02-21126 Filed 8-19-02; 8:45 am]

BILLING CODE 8010-01-P